SECURITIES AND EXCHANGE COMMISSION

[File No. 500-1]

In the Matter of China Domestica Bio-Technology Holdings, Inc., Order of Suspension of Trading

December 30, 2015.

It appears to the Securities and Exchange Commission (“Commission”) that there is a lack of current and accurate information concerning the securities of Changda International Holdings, Inc. (“CDBH ¹”) (CIK No. 1380706), a defaulted Nevada corporation whose principal place of business is listed as LungFung District, Shenzhen, China because it is delinquent in its periodic filings with the Commission, having not filed any periodic reports since it filed a Form 10-K for the period ended March 31, 2012. As of December 15, CDBH's common stock was quoted on OTC Link (previously “Pink Sheets”) operated by OTC Markets Group Inc. On April 28, 2015, the Commission's Division of Corporation Finance sent a delinquency letter to CDBH at the address shown in its then-most recent filing in the Commission's EDGAR system requesting compliance with its periodic filing requirements. To date, CDBH has failed to cure its delinquencies.

¹ The short form of the issuer's name is also its ticker symbol.

The Commission is of the opinion that the public interest and the protection of investors require a suspension of trading in the securities of the above-listed company. Therefore, it is ordered, pursuant to Section 12(k) of the Securities Exchange Act of 1934, that trading in the securities of the above-listed company is suspended for the period from 9:30 a.m. EST on December 30, 2015, through 11:59 p.m. EST on January 13, 2016.

By the Commission.
Jill M. Peterson,
Assistant Secretary.

[FR Doc. 2015-33139 Filed 12-30-15; 4:15 pm]

BILLING CODE 8011-01-P